DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 8, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on April 2, 2020.
Donald P. Burger,
Chief, General Approvals and Permits Branch.

Special Permits Data—Granted
Application No. | Applicant | Regulation(s) affected | Nature of the special permits thereof
7607-M | Thermo Fisher Scientific Inc | 172.101(j), 173.306 | To modify the special permit to clarify the manufacturing markings.
16518-M | Midwest Helicopter Airways | 172.200, 172.301(c), 175.33 | To modify the special permit to authorize additional hazmat.
20396-M | Hexagon Digital Wave LLC | 180.205(g) | To modify the special permit to authorize MA testing of certain DOT-CFFC cylinders.
20932-N | Jingjiang Asian-pacific Logistics Equipment Co., Ltd | 178.274(b) | To authorize the manufacture, mark, sale, and use of portable tanks constructed to Section VIII, Division 2 of the ASME code.
20951-N | Kalitta Air, LLC | 172.101(j), 172.203(a), 172.301(c), 173.27(b)(2), 175.30(a)(1) | To authorize the transportation in commerce of explosives forbidden for air transportation by cargo-only aircraft.
20960-N | Johnson Outdoors Gear Llc | 173.304(a), 173.304a(d)(3)(ii) | To authorize the use of non-DOT specification receptacles similar to the 2P specification, except as specified herein, for the transportation in commerce of Division 2.1 materials.
20963-N | Lg Chem Wroclaw Energy Sp Z O O | 172.101(j) | To authorization in commerce of lithium ion batteries exceeding 35 kg by cargo-only aircraft.
20973-N | Olin Winchester LLC | 172.203(a), 173.63(b)(2)(v) | To authorize the transportation in commerce of 22 caliber (or less) rim-fire cartridges packaged loose in strong outer packagings.
20989-N | Dgm Italia Srl | 173.185(e)(5) | To authorize the transportation in commerce of lithium ion batteries which have not been tested.
20993-N | United States Dept. of Energy | 173.467 | To authorize the transportation in commerce of class 7 material in alternative packaging.
21003-N | Airgas USA, LLC | 173.301(a)(2) | To authorize the transportation in commerce of ethylene in DOT 3T 2400 tubes that are not visually inspected before filling.
21004-N | Actia Corporation | 173.185(e) | To authorize the transportation in commerce of low production lithium ion batteries.
21008-N | Atieva USA, Inc | 173.185(e), 173.220(d) | To authorize the transportation in commerce of prototype lithium battery packs by themselves and installed in equipment that exceed 35 kg. (modes 1, 2, 3, 4).
21009-N | Atlas Air, Inc | 172.101(j), 172.204(c)(3), 173.27(b)(2), 173.27(b)(3) | To authorize the transportation in commerce of explosives by cargo only aircraft which is forbidden in the regulations. (mode 4).
21021-N | Federal Express Corporation | 175.10(a)(1)(ii) | To authorize the transportation in commerce of certain Division 2.2 aerosols in crewmember carry-on baggage for the purpose of preventing the potential spread and contraction of COVID-19.

Special Permits Data—Denied
Application No. | Applicant | Regulation(s) affected | Nature of the special permits thereof
20957-N | Versum Materials, Inc | 173.338(a) | To authorize the transportation in commerce of tungsten hexafluoride in tubes that are dual marked to a DOT and UN specification.
20972-N | Distributor Operations, Inc | 173.159(e)(1) | To authorize the transportation in commerce of electric storage batteries under the exception in 173.159(e) when other hazardous materials are present on the vehicle.

Special Permits Data—Withdrawn
Application No. | Applicant | Regulation(s) affected | Nature of the special permits thereof
14951-M | Hexagon Lincoln, LLC | 173.301(f), 173.302(a) | To modify the special permit to authorize permitted cylinders to have an “in-service date” on their labels. This date would be the date in which the cylinder was released from the Hexagon inventory and placed in the possession of the end user.
20924-N | Candesant Biomedical, Inc | 172.402(c), 173.4b(a) | To authorize the transportation in commerce of Division 4.3 materials as de minimis quantities by passenger-carrying aircraft.
21010-N | Jem Technical Marketing Co., Inc |  | To authorize the transportation in commerce of hydraulic accumulators designed and fabricated in accordance with Section VIII, Division I of the ASME Code.
21011-N | Spectro Analytical Instruments Gmbh | 173.185(a) | To authorize the transportation in commerce of lithium ion batteries that are not of a type proven to meet the criteria in section 38.3 of the UN Manual of Tests and Criteria.

[FR Doc. 2020-07370 Filed 4-7-20; 8:45 am]

BILLING CODE 4910-60-P